DEPARTMENT OF AGRICULTURE

Forest Service

Comet Administrative Study Environmental Impact Statement—Klamath National Forest

AGENCY: Forest Service, USDA.

ACTION: Cancellation of notice of intent to prepare an environmental impact statement (EIS).

SUMMARY: The Forest Service is canceling the Notice of Intent for the Comet Administrative Study EIS—Klamath National Forest that was published in Federal Register, Vol. 65, No. 230 on pages 71087 through 71088 on Wednesday, November 29, 2000. The usefulness of the study has diminished due to changing circumstances, so it will no longer be pursued.

FOR FURTHER INFORMATION CONTACT: Margaret J. Boland, Forest Supervisor, Klamath National Forest, USDA Forest Service, 1312 Fairlane Road, Yreka, California 96097.

Dated: September 27, 2002.
Margaret J. Boland,
Forest Supervisor.

[FR Doc. 02-25651 Filed 10-8-02; 8:45 am]

BILLING CODE 3410-11-M